DEPARTMENT OF ENERGY

Federal Energy Regulatory Commission

[Docket No. RP00-245-001]

East Tennessee Natural Gas Company; Notice of Compliance Filing

May 31, 2000.

Take notice that on May 25, 2000, East Tennessee Natural Gas Company (East Tennessee) tendered for filing as part of its FERC Gas Tariff, Second Revised Volume No. 1, the following tariff sheet to be effective May 1, 2000:

Seventh Revised Sheet No. 176

East Tennessee asserts that this filing is in compliance with the Commission's May 12, 2000 Letter Order in the above-referenced docket, which required East Tennessee to file revised tariff language to update certain EDI data sets incorporated by reference to GISB Version 1.3.

East Tennessee states that copies of its filing have been mailed to all affected customers and interested state commissions.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-14077 Filed 6-5-00; 8:45 am]

BILLING CODE 6717-01-M